DEPARTMENT OF COMMERCE

National Oceanic and Atmospheric Administration

[I.D. 092905B]

Fisheries of the South Atlantic; Scientific and Statistical Committee, Biological Assessment Subcommittee, Socio-economic Subcommittee

AGENCY: National Marine Fisheries Service (NMFS), National Oceanic and Atmospheric Administration (NOAA), Commerce.

ACTION: Notice of meeting of the Scientific and Statistical Committee, Biological Subcommittee and Socio-economic Subcommittee.

SUMMARY: The South Atlantic Fishery Management Council (Council) will hold a meeting of its Scientific and Statistical Committee (SSC) and SSC Biological Subcommittee and Socio-economic Subcommittee in Charleston, South Carolina.

DATES: The meetings will take place October 19-21, 2005.

ADDRESSES: The meetings will be held at the Hampton Inn, 678 Citadel Haven Drive, Charleston, SC 29414; phone 800/426-7866 or 843/573-1200, FAX 843/556-6078.

FOR FURTHER INFORMATION CONTACT: Kim Iverson, Public Information Officer, South Atlantic Fishery Management Council, One Southpark Circle, Suite 306, Charleston, S.C., 29407-4699; phone 843/571-4366 or toll free 866/SAFMC-10; FAX 843/769-4520; email: kim.iverson@safmc.net.

SUPPLEMENTARY INFORMATION: Under the Magnuson-Stevens Act, the SSC is the body responsible for reviewing the Council's scientific materials. The Council will hold a meeting of its SSC Biological Assessment Subcommittee from 8:30 a.m. - 5 p.m. on October 19, 2005. The Socio-economic Subcommittee will meet from 8:30 a.m. - 12 noon on October 20, 2005. The full SSC will meet from 1:30 p.m. - 5 p.m. on October 20, 2005 and from 8:30 a.m. until 4 p.m. on October 21, 2005.

Subcommittees will review materials and provide recommendations to the full SSC. The SSC will then make recommendations for the Council to consider. Materials for discussion and recommendations include: a review of Amendment 13C to the Snapper Grouper Fishery Management Plan (FMP), species groupings as proposed in Amendment 13B to the Snapper Grouper FMP, the structure and functions of the SSC, a review of technical information and available data addressing overfishing in the Report to Congress, and longer term management items including marine protected areas and the Council's Fishery Ecosystem Plan and Comprehensive Plan Amendment.

Special Accommodations

These meetings are physically accessible to people with disabilities. Requests for auxiliary aids should be directed to the council office(see ADDRESSES) 3 days prior to the meetings.

Note: The times and sequence specified in this agenda are subject to change.

Dated: September 29, 2005.
Emily Menashes,
Acting Director, Office of Sustainable Fisheries, National Marine Fisheries Service.

[FR Doc. E5-5417 Filed 10-3-05; 8:45 am]

BILLING CODE 3510-22-S